DEPARTMENT OF HOMELAND SECURITY

U.S. Immigration and Customs Enforcement

[OMB Control Number 1653-0051]

Agency Information Collection Activities; Extension of a Currently Approved Collection: Standards To Prevent, Detect, and Respond to Sexual Abuse and Assault in Confinement Facilities

AGENCY: U.S. Immigration and Customs Enforcement, Department of Homeland Security.

ACTION: 60-Day notice.

SUMMARY: In accordance with the Paperwork Reduction Act (PRA) of 1995, the Department of Homeland Security (DHS), U.S. Immigration and Customs Enforcement (ICE) will submit the following Information Collection Request (ICR) to the Office of Management and Budget (OMB) for review and clearance.

DATES: Comments are encouraged and will be accepted until October 2, 2023.

ADDRESSES: All submissions received must include the OMB Control Number 1653-0051 in the body of the correspondence, the agency name and Docket ID ICEB-2012-0003. All comments received will be posted without change to http://www.regulations.gov, including any personal information provided.

(1) Online. Submit comments via the Federal eRulemaking Portal website at http://www.regulations.gov under e-Docket ID number ICEB-2012-0003.

FOR FURTHER INFORMATION CONTACT: If you have questions related to this collection please contact: Chelsea Dennis, ICE/OIPE, (202) 423-7456, chelsea.y.dennis@ice.dhs.gov.

SUPPLEMENTARY INFORMATION:

Comment

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form/Collection: Standards to Prevent, Detect, and Respond to Sexual Abuse and Assault in Confinement Facilities.

(3) Affected public who will be asked or required to respond, as well as a brief abstract: Primary: Individual or Households. DHS sets standards for the prevention, detection, and response to sexual abuse in its confinement facilities. For DHS facilities and as incorporated in DHS contracts, these standards require covered facilities to retain and report to the agency certain specified information relating to sexual abuse prevention planning, responsive planning, education and training, and investigations, as well as to collect, retain, and report to the agency certain specified information relating to allegations of sexual abuse within the covered facility.

(4) An estimate of the total number of respondents: 1,376,754.

(5) An estimate of the total public burden (in hours) associated with the collection: 117,267 annual burden hours.

Dated: July 31, 2023.
Scott Elmore,
ICE Paperwork Reduction Act Officer, OCIO.

[FR Doc. 2023-16567 Filed 8-2-23; 8:45 am]

BILLING CODE 9111-28-P